DEPARTMENT OF DEFENSE

Inspector General; Privacy Act of 1974; System of Records

AGENCY: Inspector General, DoD.

ACTION: Notice to add a system of records.

SUMMARY: The Office of the Inspector General, DoD is proposing to add a system of records to its existing inventory of record systems subject to the Privacy Act of 1974, (5 U.S.C. 552a), as amended. In addition, the OIG DoD is deleting a system of records.

DATES: This proposed action is effective without further notice on November 13, 2003 unless comments are received which result in a contrary determination.

ADDRESSES: Send comments to Office of the Inspector General, Department of Defense, 400 Army Navy Drive, Room 223, Arlington, VA 22202-4704.

FOR FURTHER INFORMATION CONTACT: Mr. Darryl R. Aaron at (703) 604-9785.

SUPPLEMENTARY INFORMATION: The Inspector General, DoD, systems of records notices subject to the Privacy Act of 1974, (5 U.S.C. 552a), as amended, have been published in the Federal Register and are available from the address above.

The proposed system report, as required by 5 U.S.C. 552a(r) of the Privacy Act of 1974, as amended, was submitted on September 23, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 30, 2003.
Patricia L. Toppings,
Alternate OSD Federal Register Liaison Officer, Department of Defense.

Deletion

CIG-10

System name:

Validation of Credentials of DoD Contractors' Employees (February 22, 1993, 58 FR 10213).

Reason: This system of records is being deleted because the OIG no longer maintains credentials on a “DoD contractor” employee.

CIG-22

System name:

OIG DoD Badge and Credentials.

System location:

Office of Security, Office of the Chief of Staff, Office of the Inspector General of the Department of Defense, 400 Army Navy Drive, Arlington, VA 22202-4704.

Office of the Deputy Inspector General for Investigations, Defense Criminal Investigative Service, Office of the Inspector General, Department of Defense, 400 Army Navy Drive, Arlington, VA 22202-4704.

Policy and Programs, Office of the Deputy Inspector General for Inspections and Policy, Office of the Inspector General of the Department of Defense, 400 Army Navy Drive, Arlington, VA 22202-4704.

Categories of individuals covered by the system:

Individuals who are granted/issued a OIG DoD badge and/or credential, to include all accredited OIG DoD Special Agents.

Categories of records in the system:

Records containing personal information consisting of an individual's name, Social Security Number, letters of authorization to issue badge and/or credential, badge and credential receipts, badge listing, badge and/or credential inspection reports, and badge and/or credential number assigned to OIG DoD employee and/or Special Agent.

Authority for maintenance of the system:

The Inspector General Act of 1978, (Pub.L. 95-452), as amended (5 U.S.C. Appendix); 18 U.S.C. 499, Military naval or official passes; 18 U.S.C. 506, Seals of the department or agencies; 18 U.S.C. 701, Official badges, identification cards, other insignia; 10 U.S.C. 133, Secretary of Defense; DoD Directive 5106.1, Inspector General of the Department of Defense; OIG DoD DCIS Special Agents Manual; OIG Instruction 1000.1, Employee Identification Program; and E.O. 9397 (SSN).

Purpose(s):

To issue and control the badge and/or credential assigned to an OIG DoD employee and/or Special Agent. Used only by OIG DoD to identify specifically to which individual each badge and/or credential is assigned, to provide for orderly update of badge and/or credentials and to ensure turn in of badge and/or credentials whenever accreditation is terminated.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the OIG's compilation of systems of records notices also apply to this system.

Policies and practices for storing, retrieving, accessing, retaining, and disposing of records in the system:

Storage:

Paper records in file folder and on electronic storage media.

Retrievability:

Retrieved by individual's name.

Safeguards:

Paper and electronic records are stored in locked filing cabinets and stored in a limited access area. Building is lock and guarded during non-duty hours. Only those individuals with a need-to-know access the records. Access to computer records are password protected.

Retention and disposal:

Paper records and computer disks are to be retained until completion of the overall validation process and data analysis, and then destroyed. When badge and credentials are turned in, records are destroyed 3 months after turn in.

System manager(s) and address:

Director, Office of Security, Office of the Chief of Staff, Office of the Inspector General of the Department of Defense, 400 Army Navy Drive, Arlington, VA 22202-4704.

Notification procedure:

Individuals seeking to determine whether information about themselves is contained in this system of records should address a written request to the Chief, Freedom of Information Act/Privacy Act Office, 400 Army Navy Drive, Arlington, VA 22202-4704.

Written request should contain the individual's full name, current address, telephone number, and the request must be signed.

Record access procedures:

Individuals seeking to access information about themselves contained in this system of records should address a written request to the Chief, Freedom of Information Act/Privacy Act Office, 400 Army Navy Drive, Arlington, VA 22202-4704.

Written request should contain the individual's full name, current address, telephone number, and the request must be signed.

Contesting record procedures:

The OIG's rules for accessing records and for contesting contents and appealing initial agency determinations are published in 32 CFR part 312 or may be obtained from the system manager.

Record source categories:

Information is obtained from individual, personnel records and issued badge and credentials.

Exemptions claimed for the system:

None.

[FR Doc. 03-25851 Filed 10-10-03; 8:45 am]

BILLING CODE 5001-08-P